DEPARTMENT OF THE INTERIOR

Fish and Wildlife Service

Information Collection To Be Submitted to the Office of Management and Budget (OMB) for Approval; Togiak National Wildlife Refuge Oral History Project

AGENCY: Fish and Wildlife Service, Interior.

ACTION: Notice; request for comments.

SUMMARY: The U.S. Fish and Wildlife Service will submit the collection of information listed below to OMB for approval under the provisions of the Paperwork Reduction Act. The information collection requirement is described in this notice. If you wish to obtain copies of the proposed information collection requirement, related forms, or explanatory material, contact the Service Information Collection Clearance Officer at the address listed below.

DATES: You must submit comments before July 11, 2003.

ADDRESSES: Submit your comments on this information collection to the Desk Officer for the Department of the Interior at OMB-OIRA via facsimile or e-mail using the following fax number or e-mail address: (202) 395-5806 (fax); ruth_solomon@omb.eop.gov (e-mail). Please provide a copy of your comments to the Fish and Wildlife Service's Information Collection Clearance Officer, 4401 N. Fairfax Dr., MS 222 ARLSQ, Arlington, VA 22207; (703) 358-2269 (fax); or anissa_craghead@fws.gov (e-mail).

FOR FURTHER INFORMATION CONACT: To request a copy of the information collection request, explanatory information, or related forms, contact Anissa Craghead at (703) 358-2445, or electronically to anissa_craghead@fws.gov.

SUPPLEMENTARY INFORMATION:

The Office of Management and Budget (OMB) regulations at 5 CFR 1320, which implement provisions of the Paperwork Reduction Act of 1995 (44 U.S.C. 3501 et seq.), require that interested members of the public and affected agencies have an opportunity to comment on information collection and recordkeeping activities (see 5 CFR 1320.8(d)). The U.S. Fish and Wildlife Service (We) plan to submit a request to OMB for approval of a new collection of information on the traditional ecological knowledge of residents in the vicinity of Togiak National Wildlife Refuge, in southwestern Alaska. We are requesting a 3-year term of approval for this information collection activity.

Federal agencies may not conduct or sponsor, and a person is not required to respond to, a collection of information unless it displays a currently valid OMB control number. Because this would be a new information collection, we are asking OMB to assign a new control number to this activity.

The National Wildlife Refuge System Improvement Act of 1997 (Pub. L. 105-57) amends and builds on the National Wildlife Refuge System Administration Act of 1966 (16 U.S.C. 668dd-668ee, as amended) (Act) to improve the management of the National Wildlife Refuge System. Section 5 of the Act specifies that each refuge shall be managed to fulfill the mission of the System, as well as the specific purposes for which that refuge was established, and to ensure that the biological integrity, diversity, and environmental health of the System are maintained for the benefit of present and future generations of Americans. To help fulfill the goals of the Act, we are requesting OMB approval of a collection of information on traditional ecological knowledge relating to persistence and change over time of the fish and wildlife populations and habitats of the area in and around Togiak National Wildlife Refuge. The information collected during this project would be used by cooperators to create a permanent record of the long-term, local subsistence activities and status of natural resources in the area of the refuge.

Title: Oral History and Traditional Knowledge-Gathering Within Togiak National Wildlife Refuge.

Frequency of Collection: Annually.

Description of Respondents: Local rural residents.

Total Annual Burden Hours: The reporting burden is estimated to average 5.5 hours per respondent. The total annual burden is 55 hours.

Total Annual Responses: We expect 10 individuals to participate in the survey per year.

We invite comments concerning this new request on: (1) Whether the collection of information is necessary for the proper performance of our refuge management functions, including whether the information will have practical utility; (2) the accuracy of our estimate of the burden of the collection of information; (3) ways to enhance the quality, utility, and clarity of the information to be collected; and (4) ways to minimize the burden of the collection of information on respondents.

Dated: June 5, 2003.
Anissa Craghead,
Information Collection Officer, Fish and Wildlife Service.

[FR Doc. 03-14664 Filed 6-10-03; 8:45 am]

BILLING CODE 4310-55-P